DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and Title 30 of the Code of Federal Regulations, 30 CFR part 44, govern the application, processing, and disposition of petitions for modification. This notice is a summary of petitions for modification submitted to the Mine Safety and Health Administration (MSHA) by the parties listed below.

DATES: All comments on the petitions must be received by the Office of Standards, Regulations, and Variances on or before May 1, 2015.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations, and Variances, 1100 Wilson Boulevard, Room 2350, Arlington, Virginia 22209-3939, Attention: Sheila McConnell, Acting Director, Office of Standards, Regulations, and Variances. Persons delivering documents are required to check in at the receptionist's desk on the 21st floor. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Numbers: M-2015-003-C.

Petitioner: Rosebud Mining Company, P.O. Box 1025, Northern Cambria, Pennsylvania 15714.

Mines: Coral-Graceton Mine, MSHA I.D. No. 36-09595 and Crooked Creek Mine, MSHA I.D. No. 36-09972, both located in Indiana County, Pennsylvania.

Regulation Affected: 30 CFR 75.503 (Permissible electric face equipment; maintenance) and 18.35(a)(5)(i) (Portable (trailing) cables and cords).

Modification Request: The petitioner requests a modification of the existing standard to permit the use of 480-volt trailing cables with a maximum length of 1200 feet when No. 2 American Wire Gauge (AWG) cable is used and a maximum length of 950 feet when No. 4 AWG cable is used on roof bolters. The petitioner states that:

(1) The trailing cables for the 480-volt bolters will not be smaller than No. 4 AWG cable.

(2) All circuit breakers used to protect the No. 2 AWG trailing cable or the No. 4 AWG trailing cable exceeding 700 feet in length will have instantaneous trip units calibrated to trip at 500 amperes. The trip setting of these circuit breakers will be sealed to ensure that the settings cannot be changed, and these circuit breakers will have permanent, legible labels. Each label will identify the circuit breaker as being suitable for protecting the cables.

(3) Replacement circuit breakers and/or instantaneous trip units used to protect the No. 2 AWG trailing cable or the No. 4 AWG trailing cable will be calibrated to trip at 500 amperes and they will be sealed.

(4) All components that provide short-circuit protection will have a sufficient interruption rating in accordance with the maximum calculated fault currents available.

(5) During each production day, the trailing cables and the circuit breakers will be examined in accordance with all 30 CFR provisions.

(6) Permanent warning labels will be installed and maintained on the load center identifying the location of each short-circuit protection device. These labels will warn miners not to change or alter the settings of these devices.

(7) If the affected trailing cables are damaged in any way during the shift, the cable will be de-energized and repairs made.

(8) The alternative method will not be implemented until all miners who have been designated to operate the bolters, or any other person designated to examine the trailing cables or trip settings on the circuit breakers, have received the proper training as to the performance of their duties.

(9) Within 60 days after the proposed decision and order becomes final, the petitioner will submit proposed revisions for their approved 30 CFR part 48 training plans to the District Manager. These revisions will specify task training for miners designated to examine the trailing cables for safe operating condition and verify that the short-circuit settings of the circuit-interrupting devices that protect the affected trailing cables do not exceed the settings specified previously in this petition. The training will include the following elements:

(a) The hazards of setting the short-circuit interrupting device(s) too high to adequately protect the trailing cables.

(b) How to verify that the circuit interrupting device(s) protecting the trailing cable(s) are properly set and maintained.

(c) Mining methods and operating procedures that will protect the trailing cables against damage.

(d) Proper procedures for examining the trailing cables to ensure that the cables are in safe operating condition by visually inspecting the entire cable, observing the insulation, the integrity of splices, nicks and abrasions.

The petitioner asserts that the proposed alternative method will at all times guarantee no less than the same measure of protection afforded by the standard.

Docket Numbers: M-2015-004-C.

Petitioner: Bowie Resources, LLC, P.O. Box 1488, Paonia, Colorado 81428.

Mine: Bowie No. 2 Mine, MSHA I.D. No. 05-04591, located in Delta County, Colorado.

Regulation Affected: 30 CFR 75.500(d) (Permissible electric equipment).

Modification Request: The petitioner requests a modification of the existing standard to permit an alternative method of compliance to allow the use of battery-powered nonpermissible infrared scanning and digital camera equipment in or inby the last open crosscut. The petitioner asserts that equivalent permissible equipment does not exist. The petitioner states that:

(1) Prohibiting the use of an infrared (IR) digital camera under the existing standard will result in the reduction of safety for the miners at the Bowie No. 2 Mine. The use of the IR will provide an effective method to detect and identify small areas of higher than normal coal pillar oxidation that may lead to spontaneous combustion.

(2) Using currently available means of detecting coal pillar oxidation, which is limited to hand-held carbon monoxide detectors, odor, or smoke is ineffective and may allow oxidation to become a heating or spontaneous combustion event.

(3) In the alternative to compliance with the existing standard the petitioner proposes the following:

(a) Nonpermissible infrared IR scanning and digital equipment will be used only when equivalent permissible equipment does not exist.

(b) All nonpermissible battery operated IR equipment will be limited to:

(i) Flir i50 7.2 volt Li/ion S/N 399002500.

(ii) Flir E5 3.6 volt Li/ion S/N 63913354.

(iii) Flir E5 3.6 volt Li/ion S/N 63917252.

(4) Nonpermissible IR equipment will only be used until equivalent permissible IR is available.

(5) A logbook will be maintained for electronic IR and will be kept in the mine office where the equipment is located. The logbook will contain the date of manufacture and/or purchase of each particular piece of electronic IR equipment and will be made available to MSHA on request.

(6) All nonpermissible electronic IR equipment to be used in or inby the last open crosscut will be examined by the person that will operate the equipment, prior to taking the equipment underground to ensure the equipment is being maintained in a safe operating condition. These checks will include:

(i) Checking the instrument for any physical damage and the integrity of the case.

(ii) Removing the battery and inspecting for corrosion.

(iii) Inspecting the contact points to ensure a secure connection to the battery.

(iv) Reinserting the battery and powering up and shutting down to ensure proper connections.

(v) Checking the battery compartment cover to ensure that it is securely fastened.

(vi) Recording the results of the inspection in the equipment logbook.

(7) The equipment will be examined at least weekly by a qualified person as defined in 30 CFR 75.153. The examination results will be recorded weekly in the logbook. Inspection entries in the logbook may be expunged after one year.

(8) All nonpermissible electronic IR equipment will be serviced according to the manufacturer's recommendations. Dates of service will be recorded in the equipment logbook and will include a description of the work performed.

(9) The nonpermissible IR equipment that will be used in or inby the last open crosscut will not be put into service until MSHA has initially inspected the equipment and determined that it is in compliance.

(10) Nonpermissible IR equipment will not be used if methane is detected in concentrations at or above one percent. When one percent or more of methane is detected while the nonpermissible IR equipment is being used, the equipment will be deenergized immediately and withdrawn outby the last open crosscut. Prior to returning inby the last open crosscut, all requirements of 30 CFR 75.323 will be complied with.

(11) As an additional safety check, prior to energizing nonpermissible IR equipment in or inby the last open crosscut, the operator of the equipment will conduct a visual examination of the immediate area for evidence that the area appears to be sufficiently rock dusted and for the presence of accumulated float coal dust. If the rock dusting appears insufficient or the presence of accumulated coal dust is observed, the equipment may not be energized until sufficient rock dust has been applied and/or the accumulations of coal dust have been cleaned up. If nonpermissible IR equipment is to be used in an area that is not rock dusted, within 40-feet of a working face where a continuous miner is used to extract coal, the area is to be rock dusted prior to energizing the electronic IR equipment.

(12) All hand-held methane detectors will be MSHA-approved and maintained in permissible and proper operating condition as defined by 30 CFR 75.320. All methane detectors must provide visual and audible warnings when methane is detected at or above one percent.

(13) Prior to energizing the electronic IR equipment in or inby the last open crosscut, methane tests must be made no more than eight inches from the roof or floor in the area where the equipment is to be used.

(14) All areas to be examined with nonpermissible IR equipment must be pre-shifted according to 30 CFR 75.360 prior to the IR examination. If the area is not pre-shifted a supplemental examination according to 30 CFR 75.361 must be performed before any non-certified person enters the area. If the area has been examined according to 30 CFR 75.360 or 75.361, an additional examination is not required.

(15) A qualified person as defined in 30 CFR 75.151 will continuously monitor for methane immediately before and during the use of nonpermissible IR equipment in or inby the last open crosscut.

(16) Batteries contained in the IR equipment must be changed out or charged in intake air outby the last open crosscut. Replacement batteries for the electronic IR equipment will not be brought in or inby the last open crosscut. Upon entry into the mine, all batteries for the electronic infrared equipment must be fully charged.

(17) When using nonpermissible electronic IR equipment in or inby the last open crosscut the operator must confirm by measurement or by inquiry of the person in charge of the section that the air quantity on the section, on that shift, in the last open crosscut is the quantity that is required by the mine's ventilation plan.

(18) Personnel engaged in the use of IR equipment will be properly trained to recognize the hazards and limitations associated with the use of the equipment in areas where methane could be present.

(19) All persons who operate nonpermissible electronic IR equipment will receive specific training on the terms and conditions of this petition before using nonpermissible electronic equipment in or inby the last open crosscut. A record of the training will be kept with other training records.

(20) Within 60 days after the proposed decision and order (PDO) becomes final, the petitioner will submit proposed revisions for their approved 30 CFR part 48 training plans to the District Manager. These revisions will specify initial and refresher training regarding the terms and conditions of the PDO. When training is conducted an MSHA Certificate of Training (Form 5000-23) will be completed. Comments on the certificate of training will indicate IR operator training.

The petitioner asserts that the proposed alternative method will at all times guarantee no less than the same measure of protection afforded by the existing standard.

Docket Numbers: M-2015-005-C.

Petitioner: Bowie Resources, LLC, P.O. Box 1488, Paonia, Colorado 81428.

Mine: Bowie No. 2 Mine, MSHA I.D. No. 05-04591, located in Delta County, Colorado.

Regulation Affected: 30 CFR 75.507-1(a) (Electric equipment other than power-connection points; outby the last open crosscut; return air; permissibility requirements).

Modification Request: The petitioner requests a modification of the existing standard to permit an alternative method of compliance to allow the use of battery-powered nonpermissible infrared scanning and digital camera equipment in return airways. The petitioner asserts that equivalent permissible equipment does not exist. The petitioner states that:

(1) Prohibiting the use of an infrared (IR) digital camera under the existing standard will result in the reduction of safety for the miners at the Bowie No. 2 Mine. The use of the IR will provide an effective method to detect and identify small areas of higher than normal coal pillar oxidation that may lead to spontaneous combustion.

(2) Using currently available means of detecting coal pillar oxidation, which is limited to hand-held carbon monoxide detectors, odor, or smoke is ineffective and may allow oxidation to become a heating or spontaneous combustion event.

(3) In the alternative to compliance with the existing standard the petitioner proposes the following:

(a) Nonpermissible IR scanning and digital equipment will be used only when equivalent permissible equipment does not exist.

(b) All nonpermissible battery operated IR equipment will be limited to:

(i) Flir i50 7.2 volt Li/ion S/N 399002500.

(ii) Flir E5 3.6 volt Li/ion S/N 63913354.

(iii) Flir E5 3.6 volt Li/ion S/N 63917252.

(4) Nonpermissible IR equipment will only be used until equivalent permissible IR is available.

(5) A logbook will be maintained for electronic IR and will be kept in the mine office where the equipment is located. The logbook will contain the date of manufacture and/or purchase of each particular piece of electronic IR equipment and will be made available to MSHA on request.

(6) All nonpermissible electronic IR equipment to be used in a return airway will be examined by the person that will operate the equipment, prior to taking the equipment underground to ensure the equipment is being maintained in a safe operating condition. These checks will include:

(i) Checking the instrument for any physical damage and the integrity of the case.

(ii) Removing the battery and inspecting for corrosion.

(iii) Inspecting the contact points to ensure a secure connection to the battery.

(iv) Reinserting the battery and powering up and shutting down to ensure proper connections.

(v) Checking the battery compartment cover to ensure that it is securely fastened.

(vi) Recording the results of the inspection in the equipment logbook.

(7) The equipment will be examined at least weekly by a qualified person as defined in 30 CFR 75.153. The examination results will be recorded weekly in the logbook. Inspection entries in the logbook may be expunged after one year.

(8) All nonpermissible electronic IR equipment will be serviced according to the manufacturer's recommendations. Dates of service will be recorded in the equipment logbook and will include a description of the work performed.

(9) The nonpermissible IR equipment that will be used in return airways will not be put into service until MSHA has initially inspected the equipment and determined that it is in compliance.

(10) Nonpermissible IR equipment will not be used if methane is detected in concentrations at or above one percent. When one percent or more of methane is detected while the nonpermissible IR equipment is being used, the equipment will be deenergized immediately and withdrawn from the return airway. Prior to returning to the return airway, all requirements of 30 CFR 75.323 will be complied with.

(11) As an additional safety check, prior to energizing nonpermissible IR equipment in a return airway, the operator of the equipment will conduct a visual examination of the immediate area for evidence that the area appears to be sufficiently rock dusted and for the presence of accumulated float coal dust. If the rock dusting appears insufficient or the presence of accumulated coal dust is observed, the equipment may not be energized until sufficient rock dust has been applied and/or the accumulations of coal dust have been cleaned up.

(12) All hand-held methane detectors will be MSHA-approved and maintained in permissible and proper condition as defined by 30 CFR 75.320. All methane detectors must provide visual and audible warnings when methane is detected at or above one percent.

(13) Prior to energizing the electronic IR equipment in a return airway, methane tests must be made no more than eight inches from the roof or floor in the area where the equipment is to be used.

(14) All areas to be examined with nonpermissible IR equipment must be pre-shifted according to 30 CFR 75.360 prior to the IR examination. If the area is not pre-shifted a supplemental examination according to 30 CFR 75.361 must be performed before any non-certified person enters the area. If the area has been examined according to 30 CFR 75.360 or 75.361, an additional examination is not required.

(15) A qualified person as defined in 30 CFR 75.151 will continuously monitor for methane immediately before and during the use of nonpermissible IR equipment in a return airway.

(16) Batteries contained in the IR equipment must be changed out or charged in intake air outside of a return airway. Replacement batteries for the electronic IR equipment will not be brought into a return airway. Upon entry into the mine all batteries for the electronic IR equipment must be fully charged.

(17) When using nonpermissible electronic IR equipment in a return airway, the operator must confirm by measurement or by inquiry of the person in charge of the section that the air quantity in the return airway, on that shift, is the quantity that is required by the mine's ventilation plan.

(18) Personnel engaged in the use of IR equipment will be properly trained to recognize the hazards and limitations associated with the use of IR equipment in areas where methane could be present.

(19) All persons who operate nonpermissible electronic IR equipment will receive specific training on the terms and conditions of this petition before using nonpermissible electronic equipment in a return airway. A record of the training will be kept with other training records.

(20) Within 60 days after the proposed decision and order (PDO) becomes final, the petitioner will submit proposed revisions for their approved 30 CFR part 48 training plans to the District Manager. These revisions will specify initial and refresher training regarding the terms and conditions of the PDO. When training is conducted an MSHA Certificate of Training (Form 5000-23) will be completed. Comments on the certificate of training will indicate IR operator training.

The petitioner asserts that the proposed alternative method will at all times guarantee no less than the same measure of protection afforded by the existing standard.

Docket Numbers: M-2015-006-C.

Petitioner: Bowie Resources, LLC, P.O. Box 1488, Paonia, Colorado 81428.

Mine: Bowie No. 2 Mine, MSHA I.D. No. 05-04591, located in Delta County, Colorado.

Regulation Affected: 30 CFR 75.1002(a) (Installation of electric equipment and conductors; permissibility).

Modification Request: The petitioner requests a modification of the existing standard to permit an alternative method of compliance to allow the use of battery-powered nonpermissible infrared scanning and digital camera equipment within 150 feet of a pillar line or longwall face. The petitioner asserts that equivalent permissible equipment does not exist. The petitioner states that:

(1) Prohibiting the use of an infrared (IR) digital camera under the existing standard will result in the reduction of safety for the miners at the Bowie No. 2 Mine. The use of the IR will provide an effective method to detect and identify small areas of higher than normal coal pillar oxidation that may lead to spontaneous combustion.

(2) Using currently available means of detecting coal pillar oxidation, which is limited to hand-held carbon monoxide detectors, odor, or smoke is ineffective and may allow oxidation to become a heating or spontaneous combustion event.

(3) In the alternative to compliance with the existing standard the petitioner proposes the following:

(a) Nonpermissible IR scanning and digital equipment will be used only when equivalent permissible equipment does not exist.

(b) All nonpermissible battery operated IR equipment will be limited to:

(i) Flir i50 7.2 volt Li/ion S/N 399002500.

(ii) Flir E5 3.6 volt Li/ion S/N 63913354.

(iii) Flir E5 3.6 volt Li/ion S/N 63917252.

(4) Nonpermissible IR equipment will only be used until equivalent permissible IR is available.

(5) A logbook will be maintained for electronic IR and will be kept in the mine office where the equipment is located. The logbook will contain the date of manufacture and/or purchase of each particular piece of electronic IR equipment and will be made available to MSHA on request.

(6) All nonpermissible electronic IR equipment to be used within 150 feet of a pillar line or longwall face will be examined by the person that will operate the equipment, prior to taking the equipment underground to ensure the equipment is being maintained in a safe operating condition. These checks will include:

(i) Checking the instrument for any physical damage and the integrity of the case.

(ii) Removing the battery and inspecting for corrosion.

(iii) Inspecting the contact points to ensure a secure connection to the battery.

(iv) Reinserting the battery and powering up and shutting down to ensure proper connections.

(v) Checking the battery compartment cover to ensure that it is securely fastened.

(vi) Recording the results of the inspection in the equipment logbook.

(7) The equipment will be examined at least weekly by a qualified person as defined in 30 CFR 75.153. The examination results will be recorded weekly in the logbook. Inspection entries in the logbook may be expunged after one year.

(8) All nonpermissible electronic IR equipment will be serviced according to the manufacturer's recommendations. Dates of service will be recorded in the equipment logbook and will include a description of the work performed.

(9) The nonpermissible IR equipment that will be used within 150 feet of a pillar line or longwall face will not be put into service until MSHA has initially inspected the equipment and determined that it is in compliance.

(10) Nonpermissible IR equipment will not be used if methane is detected in concentrations at or above one percent. When one percent or more of methane is detected while the nonpermissible IR equipment is being used, the equipment will be deenergized immediately and withdrawn from within 150 feet of the pillar line or longwall face. Prior to returning to within 150 feet of a pillar line or longwall face, all requirements of 30 CFR 75.323 will be complied with.

(11) As an additional safety check, prior to energizing nonpermissible IR equipment within 150 feet of a pillar line or longwall face, the operator of the equipment will conduct a visual examination of the immediate area for evidence that the area appears to be sufficiently rock dusted and for the presence of accumulated float coal dust. If the rock dusting appears insufficient or the presence of accumulated coal dust is observed, the equipment may not be energized until sufficient rock dust has been applied and/or the accumulations of coal dust have been cleaned up.

(12) All hand-held methane detectors will be MSHA-approved and maintained in permissible and proper condition as defined by 30 CFR 75.320. All methane detectors must provide visual and audible warnings when methane is detected at or above one percent.

(13) Prior to energizing the electronic IR equipment within 150 feet of a pillar line or longwall face, methane tests must be made no more than eight inches from the roof or floor in the area where the equipment is to be used.

(14) All areas to be examined with nonpermissible IR equipment must be pre-shifted according to 30 CFR 75.360 prior to the IR examination. If the area is not pre-shifted a supplemental examination according to 30 CFR 75.361 must be performed before any non-certified person enters the area. If the area has been examined according to 30 CFR 75.360 or 75.361, an additional examination is not required.

(15) A qualified person as defined in 30 CFR 75.151 will continuously monitor for methane immediately before and during the use of nonpermissible IR equipment within 150 feet of a pillar line or longwall face.

(16) Batteries contained in the IR equipment must be changed out or charged in intake air outside of 150 feet of a pillar line or longwall face. Replacement batteries for the electronic IR equipment will not be brought within 150 feet of a pillar line or longwall face. Upon entry into the mine all batteries for the electronic IR equipment must be fully charged.

(17) When using nonpermissible electronic IR equipment within 150 feet of a pillar line or longwall face, the operator must confirm by measurement or by inquiry of the person in charge of the section that the intake air quantity to the pillar line or the longwall face, on that shift, is the quantity that is required by the mine's ventilation plan.

(18) Personnel engaged in the use of IR equipment will be properly trained to recognize the hazards and limitations associated with the use of IR equipment in areas where methane could be present.

(19) All persons who operate nonpermissible electronic IR equipment will receive specific training on the terms and conditions of this petition before using nonpermissible electronic equipment within 150 feet of a pillar line or longwall face. A record of the training will be kept with other training records.

(20) Within 60 days after the proposed decision and order (PDO) becomes final, the petitioner will submit proposed revisions for their approved 30 CFR part 48 training plans to the District Manager. These revisions will specify initial and refresher training regarding the terms and conditions of the PDO. When training is conducted an MSHA Certificate of Training (Form 5000-23) will be completed. Comments on the certificate of training will indicate IR operator training.

The petitioner asserts that the proposed alternative method will at all times guarantee no less than the same measure of protection afforded by the existing standard.

Docket Numbers: M-2015-001-M.

Petitioner: The Doe Run Company, Three Gateway Center, Suite 1500, 401 Liberty Avenue, Pittsburgh, Pennsylvania 15222-1000.

Mines: Buick Mine/Mill, MSHA I.D. No. 23-00457 and Viburnum No. 35 (Casteel Mine), MSHA I.D. No. 23-01800, located in Iron County, Missouri; Sweetwater Mine/Mill, MSHA I.D. No. 23-00458, Fletcher Mine/Mill, MSHA I.D. No. 23-00409, and Brushy Creek Mine/Mill, MSHA I.D. No. 23-00499, located in Reynolds County, Missouri; and Viburnum No. 29 Mine, MSHA I.D. No. 23-00495, located in Washington County, Missouri.

Regulation Affected: 30 CFR 57.11052(d) (Refuge areas).

Modification Request: The petitioner requests a modification of the existing standard to permit the use of compressed air cylinders and bottled water at its underground lead mines. The petitioner states that:

(1) The mines consist of both development and production headings. Activities include drilling, blasting, scaling, loading and hauling of ore.

(2) The compressed air and bottled water will be used in proposed refuge areas located at various locations.

(3) The mines currently use designated points of safety (DPOS) located throughout the mine for areas of safe refuge in case of an emergency. The DPOS contains compressed air with a regulator, bottled water, first aid supplies, maps and a phone.

(4) As an alternative to compliance with the existing standard, Doe Run proposes the following:

(a) The proposed refuge chambers will be constructed out of fire resistant material.

(b) The door to the proposed refuge chambers will have at least a fire rating of one and one-half hours.

(c) The chamber will be equipped with at minimum three compressed air bottles each containing 7,929 liters at 310 cubic feet of Grade D breathing air; a regulator to meter the air; a minimum of 15 gallons of bottled water; first aid kit; stretcher; six tubes of latex caulk to seal around the door; one fire extinguisher; and a set of escape maps and an escape plan.

(d) A pager phone will be used for communication. The phone line servicing the phone will be a heavy jacketed, shielded line that runs from the main shop area to the refuge area, and a second line will be installed.

(e) The refuge chambers will be equipped with a ball valve located on the wall to relieve pressure build up from the use of the compressed air inside the chambers.

(f) Two benches will be located along the walls to provide seating for the miners.

The petitioner asserts that the proposed alternative method will at all times guarantee no less than the same measure of protection afforded by the existing standard.

Dated: March 26, 2015.
Sheila McConnell,
Acting Director, Office of Standards, Regulations, and Variances.

[FR Doc. 2015-07388 Filed 3-31-15; 8:45 am]

BILLING CODE 4510-43-P